DEPARTMENT OF COMMERCE

International Trade Administration

[A-570-909]

Certain Steel Nails From the People's Republic of China: Final Results and Final Partial Rescission of the Second Antidumping Duty Administrative Review

AGENCY: Import Administration, International Trade Administration, Department of Commerce.

SUMMARY: On September 12, 2011, the Department of Commerce (“Department”) published the preliminary results of the second administrative review of the antidumping duty order on certain steel nails (“steel nails”) from the People's Republic of China (“PRC”).¹ We gave interested parties an opportunity to comment on the Preliminary Results. Based upon our analysis of the comments and information received, we made changes to the margin calculations for the final results of this review. The final weighted-average margins are listed below in the “Final Results of the Review” section of this notice. The period of review (“POR”) is August 1, 2009, through July 31, 2010.

¹ See Certain Steel Nails From the People's Republic of China: Preliminary Results and Preliminary Rescission, in Part, of the Antidumping Duty Administrative Review and Preliminary Intent To Rescind New Shipper Review, 76 FR 56147 (September 12, 2011) (“Preliminary Results”).

DATES: Effective Date: March 1, 2012.

FOR FURTHER INFORMATION CONTACT: Alexis Polovina, Javier Barrientos, or Ricardo Martinez Rivera, AD/CVD Operations, Office 9, Import Administration, International Trade Administration, Department of Commerce, 14th Street and Constitution Avenue NW., Washington, DC 20230; telephone: (202) 482-3927, (202) 482-2243, or (202) 482-4532, respectively.

Case History

On September 12, 2011, the Department published in the Federal Register the Preliminary Results. Thereafter, on September 12, and 14, 2011, we issued questionnaires directly to unaffiliated suppliers in order to obtain certain factors of production (“FOP”) data. Between October 11, 2011, and November 9, 2011, we received case and rebuttal briefs from the petitioner,² the mandatory respondents,³ and other interested parties ⁴ in this administrative review. On December 5, 2011, the Department rescinded the new shipper review aligned with this administrative review.⁵ Between January 12, 2012, and February 1, 2012, counsel for certain interested parties met with Department officials to discuss issues raised in their case and rebuttal briefs.⁶ On December 7, 2011, the Department extended the final results to February 9, 2012.⁷ On February 7, 2012, the Department extended the final results to February 23, 2012.⁸

² Mid Continent Nail Corporation (“Petitioner”).

³ The Stanley Works (Langfang) Fastening Systems Co., Ltd. (“Stanley (Langfang)”) and Stanley Black & Decker, Inc. (“The Stanley Works”)/Stanley Fastening Systems, LP (collectively “Stanley”); Tianjin Jinchi Metal Products Co., Ltd. (“Jinchi”); and Tianjin Jinghai County Hongli Industry & Business Co. (“Hongli”).

⁴ Zhejiang Gem-Chun Hardware Accessory Co., Ltd. Additionally, the following companies filed combined case briefs with two of the mandatory respondents, Jinchi and Hongli: Itochu Building Products Co., Inc., Certified Products International Inc., Chiieh Yungs Metal Ind. Corp., Huanghua Jinhai Hardware Products Co., Ltd., Co., Ltd., Shangdong Dinglong Import & Export Co., Ltd., Tianjin Zhonglian Metals Ware Co., Ltd., Hengshui Mingyao Hardware & Mesh Products Co., Ltd., Huanghua Xionghua Hardware Products Co., Ltd., Shanghai Jade Shuttle Hardware Tools Co., Ltd., Shanghai Yueda Nails Industry Co., Ltd., Shanxi Tianli Industries Co., Ltd., China Staple Enterprise (Tianjin) Co., Ltd., Qidong Liang Chyuan Metal Industry Co., Ltd., Romp (Tianjin) Hardware Co., Ltd., CYM (Nanjing) Ningquan Nail Manufacture Co., Ltd. a.k.a. CYM (Nanjing), Nail Manufacture Co., Ltd., Shanxi Pioneer Hardware Industrial Co., Ltd. and Mingguang Abundant Hardware Productions Co., Ltd.

⁵ See Certain Steel Nails from the People's Republic of China: Final Rescission of Antidumping Duty New Shipper Review, 76 FR 75871 (December 5, 2011).

⁶ See Memorandum to the File, From Alexis Polovina, Senior Case Analyst, 2nd Administrative Review of Certain Steel Nails from the People's Republic of China: Ex Parte Meeting with Counsel to Petitioner, dated January 13, 2012; Memorandum to the File, From Alexis Polovina, Senior Case Analyst, 2nd Administrative Review of Certain Steel Nails from the People's Republic of China: Meeting with Counsel, dated January 17, 2012; Memorandum to the File, From Alexis Polovina, Senior case Analyst, 2nd Administrative Review of Certain Steel Nails form the People's Republic of China: Ex Parte Meeting with Counsel to Respondent, dated January 20, 2012; and Memorandum to the File, From Alexis Polovina, Senior Case Analyst, 2nd Administrative Review of Certain Steel Nails from the People's Republic of China: Ex Parte Meeting with Interested Parties, dated February 6, 2012.

⁷ See Certain Steel Nails From the People's Republic of China: Extension of Time Limit for the Final Results of the Second Antidumping Duty Administrative Review 76 FR 77205 (December 7, 2011).

⁸ See Certain Steel Nails From the People's Republic of China: Extension of Time Limit for the Final Results of the Second Antidumping Duty Administrative Review, 77 FR 8808 (February 15, 2012).

Analysis of Comments Received

All issues raised in the case and rebuttal briefs by parties are addressed in the “Certain Steel Nails from the People's Republic of China: Issues and Decision Memorandum for the Final Results of the Second Antidumping Duty Administrative Review,” dated concurrently with this notice (“Issues and Decision Memorandum”), which is hereby adopted by this notice. A list of the issues which parties raised is attached to this notice as an Appendix. Parties can find a complete discussion of all issues raised in this review and the corresponding recommendation in this public memorandum which is on file electronically via Import Administration's Antidumping and Countervailing Duty Centralized Electronic Services System (“IA ACCESS”). Access to IA ACCESS is available in the Central Records Unit (“CRU”) of the main Commerce Building, Room 7046. In addition, a complete version of the Issues and Decision Memorandum is accessible on the Web at http://ia.ita.doc.gov/frn. The paper copy and electronic versions of the Issues and Decision Memorandum are identical in content.

Final Partial Rescission of Administrative Review

In the Preliminary Results, the Department announced its intent to rescind the review with respect to certain companies ⁹ that certified they made no shipments of subject merchandise during the POR.¹⁰ For the final results, we continue to find that these companies did not make shipments during the POR. Thus, in accordance with 19 CFR 351.213(d)(3), and consistent with our practice,¹¹ we are rescinding this review with respect to these companies.

⁹ Those companies are: (1) Beijing Hongsheng Metal Co., Ltd.; (2) Besco Machinery Industry (Zhejiang) Co., Ltd.; (3) Certified Products International Inc. (“CPI”); (4) Chiieh Yung Metal Ind. Corp.; (5) China Staple Enterprise (Tianjin) Co., Ltd.; (6) CYM (Nanjing) Nail Manufacture Co., Ltd.; (7) Jining Huarong Hardware Products Co., Ltd.; (8) Nanjing Yuechang Hardware Products Co., Ltd.; (9) PT Enterprise Inc.; (10) Qidong Liang Chyuan Metal Industry Co., Ltd.; (11) Shanghai Tengyu Hardware Tools Co., Ltd.; (12) Shanxi Yuci Broad Wire Products Co., Ltd.; and (13) Zhejiang Gem-Chun Hardware Accessory Co., Ltd.; (collectively, the “No Shipment Respondents”).

¹⁰ See Preliminary Results, 75 FR at 56071-56072; see also Memorandum to James C. Doyle, Office 9 Director, through Alex Villanueva, Office 9 Program Manager, from Matthew Renkey, Senior Case Analyst and Emeka Chukwudebe, Case Analyst, First Antidumping Duty Administrative Review of Certain Steel Nails from the Peoples' Republic of China (“PRC”): Partial Rescission of the First Antidumping Duty Administrative Review, dated September 7, 2010.

¹¹ See, e.g., Certain Frozen Fish Fillets From the Socialist Republic of Vietnam: Final Results of Antidumping Duty Administrative Review and Partial Rescission, 73 FR 15479, 15480 (March 24, 2008).

Changes Since the Preliminary Results

Based on a review of the record, as well as comments received from parties regarding our Preliminary Results, we have made certain changes to the margin calculations. Specifically, we have applied partial adverse facts available (“AFA”) to one respondent, Jinchi, as well as changed several surrogate values used in the Preliminary Results. For all changes to the calculations, see the Issues and Decision Memorandum and company-specific analysis memoranda. For changes to the surrogate values, see “Memorandum to the File, through Matthew Renkey, Acting Program Manager, AC/CVD Operations, Office 9, from Ricardo Martinez, case analyst, AD/CVD Operations, Office 9, Second Antidumping Duty Administrative Review of Certain Steel Nails from the People's Republic of China: Surrogate Values for the Final Results,” dated concurrently with this notice.

Scope of the Order

The merchandise covered by this order includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot dipping one or more times), phosphate cement, and paint. Head styles include, but are not limited to, flat, projection, cupped, oval, brad, headless, double, countersunk, and sinker. Shank styles include, but are not limited to, smooth, barbed, screw threaded, ring shank and fluted shank styles. Screw-threaded nails subject to this proceeding are driven using direct force and not by turning the fastener using a tool that engages with the head. Point styles include, but are not limited to, diamond, blunt, needle, chisel and no point. Finished nails may be sold in bulk, or they may be collated into strips or coils using materials such as plastic, paper, or wire. Certain steel nails subject to this order are currently classified under the Harmonized Tariff Schedule of the United States (“HTSUS”) subheadings 7317.00.55, 7317.00.65 and 7317.00.75.

Excluded from the scope of this order are steel roofing nails of all lengths and diameter, whether collated or in bulk, and whether or not galvanized. Steel roofing nails are specifically enumerated and identified in ASTM Standard F 1667 (2005 revision) as Type I, Style 20 nails. Also excluded from the scope are the following steel nails: (1) Non-collated (i.e., hand-driven or bulk), two-piece steel nails having plastic or steel washers (caps) already assembled to the nail, having a bright or galvanized finish, a ring, fluted or spiral shank, an actual length of 0.500″ to 8″, inclusive; and an actual shank diameter of 0.1015″ to 0.166″, inclusive; and an actual washer or cap diameter of 0.900″ to 1.10″, inclusive; (2) Non-collated (i.e., hand-driven or bulk), steel nails having a bright or galvanized finish, a smooth, barbed or ringed shank, an actual length of 0.500″ to 4″, inclusive; an actual shank diameter of 0.1015″ to 0.166″, inclusive; and an actual head diameter of 0.3375″ to 0.500″, inclusive; (3) Wire collated steel nails, in coils, having a galvanized finish, a smooth, barbed or ringed shank, an actual length of 0.500″ to 1.75″, inclusive; an actual shank diameter of 0.116″ to 0.166″, inclusive; and an actual head diameter of 0.3375″ to 0.500″, inclusive; and (4) Non-collated (i.e., hand-driven or bulk), steel nails having a convex head (commonly known as an umbrella head), a smooth or spiral shank, a galvanized finish, an actual length of 1.75″ to 3″, inclusive; an actual shank diameter of 0.131″ to 0.152″, inclusive; and an actual head diameter of 0.450″ to 0.813″, inclusive.

Also excluded from the scope of this order are corrugated nails. A corrugated nail is made of a small strip of corrugated steel with sharp points on one side. Also excluded from the scope of this order are fasteners suitable for use in powder-actuated hand tools, not threaded and threaded, which are currently classified under HTSUS 7317.00.20 and 7317.00.30. Also excluded from the scope of this order are thumb tacks, which are currently classified under HTSUS 7317.00.10.00.

Also excluded from the scope of this order are certain brads and finish nails that are equal to or less than 0.0720 inches in shank diameter, round or rectangular in cross section, between 0.375 inches and 2.5 inches in length, and that are collated with adhesive or polyester film tape backed with a heat seal adhesive. Also excluded from the scope of this order are fasteners having a case hardness greater than or equal to 50 HRC, a carbon content greater than or equal to 0.5 percent, a round head, a secondary reduced-diameter raised head section, a centered shank, and a smooth symmetrical point, suitable for use in gas-actuated hand tools. While the HTSUS subheadings are provided for convenience and customs purposes, the written description of the scope of this order is dispositive.

Non-Market Economy Treatment

The Department considers the PRC to be a non-market economy (“NME”) country.¹² In accordance with section 771(18)(C)(i) of the Tariff Act of 1930, as amended (“Act”), any determination that a foreign country is an NME country shall remain in effect until revoked by the administering authority. No party has challenged the designation of the PRC as an NME country in this review. Therefore, the Department continues to treat the PRC as an NME country for purposes of these final results.

¹² See, e.g., Preliminary Determination of Sales at Less Than Fair Value and Postponement of Final Determination: Coated Free Sheet Paper from the People's Republic of China, 72 FR 30758, 30760 (June 4, 2007), unchanged in Final Determination of Sales at Less Than Fair Value: Coated Free Sheet Paper from the People's Republic of China, 72 FR 60632 (October 25, 2007).

Surrogate Country

In the Preliminary Results, the Department stated that it selected India as the appropriate surrogate country to use in this administrative review for the following reasons: (1) It is a significant producer of comparable merchandise; (2) it is at a comparable level of economic development pursuant to section 773(c)(4) of the Act; and (3) the Department has reliable data from India that it can use to value the factors of production. As no party submitted additional comments challenging our selection of the primary surrogate country, we are continuing to use India as the surrogate country for the final results of this administrative review.

Separate Rates

In proceedings involving NME countries, the Department holds a rebuttable presumption that all companies within the country are subject to government control and, thus, should be assessed a single antidumping duty rate. It is the Department's policy to assign all exporters of subject merchandise in an NME country this single rate unless an exporter can demonstrate that it is sufficiently independent so as to be entitled to a separate rate.¹³

¹³ See Notice of Final Determination of Sales at Less Than Fair Value: Sparklers from the People's Republic of China, 56 FR 20588 (May 6, 1991), as further developed in Notice of Final Determination of Sales at Less Than Fair Value: Silicon Carbide from the People's Republic of China, 59 FR 22585 (May 2, 1994).

In the Preliminary Results, we determined that in addition to the mandatory respondents, the Separate Rate Applicants ¹⁴ also met the criteria for separate-rate status. No party challenged these preliminary separate rate findings, we therefore continue to find that mandatory respondents and Separate Rate Applicants met the criteria for separate rate status. The margin assigned to the Separate Rate Applicants is based on the estimated weighted-average antidumping margins established for exporters and producers individually investigated, excluding zero and de minimis margins or margins based entirely on AFA.¹⁵

¹⁴ These companies include: (1) Dezhou Hualude Hardware Products Co., Ltd.; (2) Hengshui Mingyao Hardware & Mesh Products Co., Ltd.; (3) Huanghua Jinhai Hardware Products Co., Ltd.; (4) Huanghua Xionghua Hardware Products Co., Ltd.; (5) Koram Panagene Co., Ltd.; (6) Qingdao D & L Group Ltd.; (7) Romp (Tianjin) Hardware Co., Ltd.; (8) Shandong Dinglong Import & Export Co., Ltd.; (9) Shanghai Curvet Hardware Products Co., Ltd.; (10) Shanghai Jade Shuttle Hardware Tools Co., Ltd.; (11) Shanghai Yueda Nails Industry Co., Ltd.; (12) Shanxi Tianli Industries Co., Ltd.; (13) Tianjin Lianda Group Co., Ltd.; (14) Tianjin Universal Machinery Imp & Exp Corporation; and (15) Tianjin Zhonglian Metals Ware Co., Ltd., (collectively, “Separate Rate Applicants”).

¹⁵ See Certain Frozen Warmwater Shrimp From the Socialist Republic of Vietnam: Final Results and Final Partial Rescission of Antidumping Duty Administrative Review, 73 FR 52273, 52275 (September 9, 2008) and accompanying Issues and Decision Memorandum at Comment 6.

PRC-Wide Rate and PRC-Wide Entity

In the Preliminary Results, because reviews were requested for several companies that failed to demonstrate that they operate free of government control, the Department determined that these companies were part of the PRC-wide entity. In the most recently completed review, we assigned a rate of 118.04 percent to the PRC-wide entity. Since the Preliminary Results, none of the companies that did not file separate rate applications or certifications submitted comments regarding these findings of government control. Therefore, we are assigning these companies the PRC-wide rate of 118.04 percent assigned to the PRC-wide entity in the most recently completed administrative review of this antidumping order.¹⁶ The Department is applying a single antidumping rate, i.e., the PRC-wide rate of 118.04 percent, to all other exporters of subject merchandise from the PRC because only the mandatory respondents and Separate-Rate Applicants have overcome that presumption that they are not part of the PRC-wide entity. The PRC-wide rate applies to all entries of the merchandise under consideration, except for those from companies which have received a separate rate.

¹⁶ See Certain Steel Nails From the People's Republic of China: Final Results of the First Antidumping Administrative Review, 76 FR 16379, 16382 (March 23, 2011).

Final Results of the Review

The weighted-average dumping margins for the POR are as follows:

Exporter | Weighted average margin (percent)
(1) The Stanley Works (Langfang) Fastening Systems Co., Ltd. and Stanley Black & Decker, Inc./Stanley Fastening Systems, LP | 3.80
(2) Tianjin Jinghai County Hongli Industry & Business Co. | 47.76
(3) Tianjin Jinchi Metal Products Co., Ltd. | 78.27
(4) Dezhou Hualude Hardware Products Co., Ltd. | 19.30
(5) Hengshui Mingyao Hardware & Mesh Products Co., Ltd. | 19.30
(6) Huanghua Jinhai Hardware Products Co., Ltd. | 19.30
(7) Huanghua Xionghua Hardware Products Co., Ltd. | 19.30
(8) Koram Panagene Co., Ltd. | 19.30
(9) Qingdao D & L Group Ltd.Co., Ltd. | 19.30
(10) Romp (Tianjin) Hardware Co., Ltd. | 19.30
(11) Shandong Dinglong Import & Export Co., Ltd. | 19.30
(12) Shanghai Curvet Hardware Products Co., Ltd. | 19.30
(13) Shanghai Jade Shuttle Hardware Tools Co., Ltd. | 19.30
(14) Shanghai Yueda Nails Industry Co., Ltd. | 19.30
(15) Shanxi Tianli Industries Co., Ltd. | 19.30
(16) Tianjin Lianda Group Co., Ltd. | 19.30
(17) Tianjin Universal Machinery Imp & Exp Corporation | 19.30
(18) Tianjin Zhonglian Metals Ware Co., Ltd. | 19.30
(19) PRC-wide Entity | 118.04

Those companies not eligible for a separate rate will be considered part of the PRC-wide entity: 17 18

¹⁷ These companies include: (1) Aironware (Shanghai) Co., Ltd.; (2) Beijing Daruixing Global Trading Co., Ltd.; (3) Beijing Daruixing Nail Products Co., Ltd.; (4) Beijing Hong Sheng Metal Products Co., Ltd.; (5) Beijing Tri-Metal Co., Ltd.; (6) China Silk Trading & Logistics Co., Ltd.; (7) Chongqing Hybest Tools Group Co., Ltd.; (8) Faithful Engineering Products Co., Ltd.; (9) Handuk Industrial Co., Ltd.; (10) Hong Kong Yu Xi Co., Ltd.; (11) Huanghua Huarong Hardware Products Co., Ltd.; (12) Jinding Metal Products Ltd.; (13) Kyung Dong Corp.; (14) Nanjing Dayu Pneumatic Gun Nails Co., Ltd.; (15) Rizhao Handuck Fasteners Co., Ltd.; (16) Senco-Xingya Metal Products (Taicang) Co., Ltd.; (17) Shandong Minmetals Co., Ltd.; (18) Shanghai Chengkai Hardware Product Co., Ltd.; (19) Shanghai Seti Enterprise International Co., Ltd.; (20) Shanxi Tianli Enterprise Co., Ltd.; (21) Shouguang Meiqing Nail Industry Co., Ltd.; (22) Sinochem Tianjin Imp & Exp Shenzhen Corp.; (23) Superior International Australia Pty Ltd.; (24) Suzhou Xingya Nail Co., Ltd.; (25) Tianjin Jurun Metal Products Co., Ltd.; (26) Wintime Import & Export Corporation Limited of Zhongshan; (27) Wuxi Qiangye Metalwork Production Co., Ltd.; (28) Xuzhou CIP International Group Co., Ltd.; (29) Yitian Nanjing Hardware Co., Ltd.; and (30) Zhongshan Junlong Nail Manufactures Co., Ltd.

¹⁸ In the Preliminary Results, the Department also identified four companies with the above group: Cana (Tianjin) Hardware Ind., Co., Ltd.; Huanghua Jinhai Metal Products Co., Ltd.; Qingdao Jisco Co., Ltd., and Tianjin Baisheng Metal Products Co., Ltd. However, the review was rescinded for these four companies. These four companies do not have separate rates. See Certain Steel Nails from the Peoples' Republic of China: Notice of Extension of Time Limits and Partial Rescission of the Second Antidumping Duty Administrative Review, 76 FR 23788 (April 28, 2011). Therefore, the Department intends to issue liquidation instructions for the PRC-wide entity 15 days after publication of the final results of this review. Id.

Assessment Rates

Pursuant to section 751(a)(2)(A) of the Act and 19 CFR 351.212(b), the Department will determine, and U.S. Customs and Border Protection (“CBP”) shall assess, antidumping duties on all appropriate entries of subject merchandise in accordance with the final results of this review. For assessment purposes, we calculated importer (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer (or customer's) entries of subject merchandise without regard to antidumping duties, in accordance with 19 CFR 351.106(c)(2). The Department intends to issue assessment instructions to CBP 15 days after the date of publication of these final results of review.

Cash Deposit Requirements

The following cash deposit requirements will be effective upon publication of the final results of this administrative review for all shipments of the subject merchandise from the PRC entered, or withdrawn from warehouse, for consumption on or after the publication date, as provided by section 751(a)(2)(C) of the Act: (1) For Stanley, Hongli, Jinchi, and the Separate Rate Applicants, the cash deposit rate will be their respective rates established in the final results of this review, except if the rate is zero or de minimis no cash deposit will be required; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 118.04 percent; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: February 23, 2012.
Paul Piquado,
Assistant Secretary for Import Administration.

Appendix I—Issues and Decision Memorandum

General Issues

Comment 1: Zeroing

Comment 2: Surrogate Financial Ratios

Comment 3: Wire Rod Surrogate Value

Comment 4: Cash Deposit and Liquidation Instructions

Company-Specific Issues

Stanley

Comment 5: Application of Partial FA or Partial AFA

Comment 6: Stanley's Surrogate Values

A. Copper Plated Steel Welding Wire

B. Sodium Sulfate

C. Glass Balls

D. Plastic Film

E. Plastic Strapping

Comment 7: Foreign Inland Freight

Hongli

Comment 8: Application of Partial FA or Partial AFA

Comment 9: Steel Plate Surrogate Value

Comment 10: Shrink Wrap Surrogate Value

Comment 11: Pallet Surrogate Value

Jinchi

Comment 12: Application of Partial FA or Partial AFA

Comment 13: Saw Dust

Comment 14: Sigma Cap Distances

Gem-Chun

Comment 15: No Shipments

[FR Doc. 2012-4877 Filed 2-29-12; 8:45 am]

BILLING CODE 3510-DS-P